DEPARTMENT OF THE INTERIOR

Bureau of Land Management

[LLNM930000.L14400000.BJ0000.BX0000]

Notice of Filing of Plat of Survey; Oklahoma

AGENCY: Bureau of Land Management, Interior.

ACTION: Notice of official filing of plat of survey; Oklahoma, suspended.

On Friday, June 19, 2015, there was published in the Federal Register, Volume 80, Number 118, on pages 35393-35394, a notice entitled “Notice of Filing of Plats of Survey, New Mexico”. In said notice was the following Plat:

Indian Meridian, Oklahoma

The plat, in three sheets, representing the dependent resurvey and survey in Township 9 North, Range 25 East, of the Indian Meridian, accepted April 15, 2015, for Group 220 OK.

The official filing of this plat, on July 20, 2015, is hereby suspended, pending further investigation by NMSO Cadastral Survey.

Authority: 43 U.S.C. chapter 3.

Michael J. Purtee,
Chief Cadastral Surveyor of New Mexico.

[FR Doc. 2023-04305 Filed 3-1-23; 8:45 am]

BILLING CODE 4310-FB-P